DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of July, 2002.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,588; Osram Sylvania Products, Inc., Central Falls, RI

TA-W-41,580; Pacific Northwest Sugar Co., Moses Lake, WA

TA-W-41.559; Southern Button Industries, Inc., Rivera Beach, FL

TA-W-41,522; John W. Hancock, Jr., Inc. A Subsidiary of Roanoke Electric Steel Corp., Salem, VA

TA-W-41,516; Washington Mould Co., Washington, PA

TA-W-41,402; Instron-Satec Systems, Grove City, PA

TA-W-41,435; Imperial Holly Sugar, Hereford, TX

In the following cases, the investigation revealed that the criteria for eligibility have not been met for the reasons specified.

The workers firm does not produce an article as required for certification under Section 222 of the Trade Act of 1974.

TA-W-41,572; RMH Teleservices, Inc., Scranton, PA

TA-W-41,000; Advanced Service, Inc., A Subsidiary of General Electric Appliances, Memphis, TN

The investigation revealed that criteria (2) has not been met. Sales or production did not decline during the relevant period as required for certification.

TA-W-41,729; Liz Claiborne, Inc., Mt. Pocono, PA

The investigation revealed that criteria (1) has not been met. A Significant number or proportion of the workers did not become totally or partially separated from employment as required for certification.

TA-W-41,577; Minnesota Mining and Manufacturing Co., Microinternconnect Systems Div., Columbia, MO

Increased imports did not contribute importantly to worker separations at the firm.

TA-W-41,597; Waukesha Engine Div., Waukesha, WI

TA-W-41,578; Holophane, A Div. Of Acuity Lighting Group, Inc., Springfield, OH

TA-W-41,501; Carolina Brand Foods, Div. Of Tyson Foods Group, Holly Ridge, NC

TA-W-41,504; US Timber Co., Camas Prairie Lumber Div., Craigmont, ID

TA-W-41,540; Anvil International, Inc., A Subsidiary of Mueller Group, Inc., Henderson, TN

Affirmative Determinations for Worker Adjustment Assistance

The following certifications have been issued; the date following the company name and location of each determination references the impact date for all workers of such determination.

TA-W-41,585; C and M Knitting Mills, Inc., Maspeth, NY: May 2, 2001.

TA-W-41,567; Vaughan-Bassett Furniture Co., Inc., Virginia House Furniture Div., Atkins, VA: May 7, 2001.

TA-W-41,561; Casco Products Corp., Bridgeport, CT: April 29, 2001.

TA-W-41,553; Astechnologies, Inc., Laminated Products Group, Monroe, MI: April 19, 2001.

TA-W-41,530; Martin Color-FI, Palmetto Spinning Yarn Div., Laurens, SC: April 12, 2001.

TA-W-41,514; Aladdin Industries, LLC, Nashville, TN: April 19, 2001.

TA-W-41,506; Ampco Metal, Inc., Milwaukee, WI: April 10, 2001.

TA-W-41,445; Quantegy, Inc., Opelika, AL: January 27, 2002.

TA-W-41,212; Ametek Specialty Motors, Hudson, WI: March 25, 2001.

TA-W-40,666; Loren Castings, Inc., Loren Industries, Hollywood, FL: December 4, 2000.

TA-W-39,253; Federal Mogul, Abex Friction Product, Salisbury, NC: May 3, 2000.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of July, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05674; Loren Castings, Inc., Loren Industries, Hollywood, FL

NAFTA-TAA-06066 & A; Motorola, Inc., Semiconductor Products Sector, MOS 5, Mesa, AZ, Semiconductor Products Sector, MOS 6, Mesa, AZ

NAFTA-TAA-06177; US Timber Co., Camas Prairie Lumber Div., Craigmont, ID

NAFTA-TAA-06202; Pacific Northwest Sugar Co., Moses Lake, WA

NAFTA-TAA-06136; International Utility Structures, Inc., Batesville, AR

NAFTA-TAA-06176; Northstar Aerospace (Chicago), Inc., A Div. of Northstar Aerospace, Inc., Formerly Derlan Industries, Inc., Bedford Park, IL

NAFTA-TAA-06188; Martin Color-FI, Palmetto Spinning Yarn Div., Laurens, SC

The investigation revealed that the criteria for eligibility have not been met for the reasons specified.

The investigation revealed that workers of the subject firm did not produce an article within the meaning of Section 250(a) of the Trade Act, as amended.

NAFTA-TAA-06345; The News Group, Midwest Div., A Div. of Great Midwest News, LLC, Jackson, MS

NAFTA-TAA-06148; Stanley Furniture Co., Inc., Stanleytown, VA

NAFTA-TAA-06049; Jacobs Sverdrup, Amherst, NY

Affimative Determinations NAFTA-TAA

NAFTA-TAA-06157; Astechnologies, Inc. Laminated Products Group, Monroe, MI: April 19, 2001.

NAFTA-TAA-06264; Washington Garment Co., Inc., Washington, NC: April 29, 2001.

NAFTA-TAA-05795; Lakemont Manufacturing Co., Inc., Lakemont, GA: January 24, 2001

NAFTA-TAA-06158; Fayette Cotton Mill, Inc. A Subsidiary of Union Underwear Co., Inc., A Subsidiary of Fruit of The Loom, Inc., Fayette, AL: April 29, 2001.

#NAFTA-TAA-06325; Metso Minerals, Inc., Clintonville, WI: June 25, 2001.

NAFTA-TAA-06340; Solectron Corp., West Palm Beach Interconnect and C-Mac Microcircuits, West Palm Beach, FL: July 5, 2001.

NAFTA-TAA-06274; Meyersdale Manufacturing Co., Div. Of Elbeco, Inc., Meyersdale, PA: May 29, 2001.

I hereby certify that the aforementioned determinations were issued during the months of July, 2002. Copies of these determinations are available for inspection in Room C-5311, U.S. Department of Labor, 200 Constitution Avenue, NW, Washington, DC 20210 during normal business hours or will be mailed to persons who write to the above address.

Dated: July 26, 2002.
Edward A. Tomchick,
Director, Division of Trade Adjustment Assistance.

[FR Doc. 02-19957 Filed 8-6-02; 8:45 am]

BILLING CODE 4510-30-P